FEDERAL COMMUNICATIONS COMMISSION

47 CFR Part 73

[DA 01-2206, MM Docket No. 01-248, RM-10241]

Radio Broadcasting Services; Dos Palos and Chualar, CA

AGENCY: Federal Communications Commission.

ACTION: Proposed rule.

SUMMARY: This document requests comments on a petition filed by KNTO, Inc. requesting the reallotment of Channel 240A from Dos Palos, California to Chualar, California, and modification of the authorization for Station KNTO(FM) to specify operation on Channel 240A at Chualar. The coordinates for Channel 240A at Chualar are 36-34-54 and 121-26-34. In accordance with Section 1.420(i) of the Commission's Rules, we shall not accept competing expressions of interest in the use of Channel 240A at Chualar, California.

DATES: Comments must be filed on or before November 13, 2001, and reply comments on or before November 27, 2001.

ADDRESSES: Federal Communications Commission, Washington, DC 20554.

In addition to filing comments with the FCC, interested parties should the petitioner's counsel's, as follows: Dan J. Alpert, The Law Office of Dan J. Alpert, 2120 N. 21st Road, Arlington, Virginia 22201.

FOR FURTHER INFORMATION CONTACT: Kathleen Scheuerle, Mass Media Bureau, (202) 418-2180.

SUPPLEMENTARY INFORMATION: This is a summary of the Commission's Notice of Proposed Rule Making, MM Docket No. 01-248, adopted September 12, 2001, and released September 21, 2001. The full text of this Commission decision is available for inspection and copying during regular business hours Reference Information Center, Portals II, 445 12 Street, SW., Room Cy-A257, Washington, DC 20554. The complete text of this decision may also be purchased from the Commission's duplicating contractor, Qualex International, Portals II, 445 12th Street, SW, Room CY-B402, Washington, DC 20554, telephone 202-863-2893, facsimile 202-863-2898, or via e-mail qualexint@aol.com. Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under California, is amended by removing Dos Palos, Channel 240A and by adding Chualar, Channel 240A.

Federal Communications Commission.
John A. Karousos,
Chief, Allocations Branch, Policy and Rules Division, Mass Media Bureau.

[FR Doc. 01-25114 Filed 10-5-01; 8:45 am]

BILLING CODE 6712-01-P